DEPARTMENT OF THE INTERIOR

Bureau of Land Management

[NM-920-1310-05; NMNM 106535]

Proposed Reinstatement of Terminated Oil and Gas Lease NMNM 106535

AGENCY: Bureau of Land Management, Interior.

ACTION: Notice of reinstatement of terminated oil and gas lease.

SUMMARY: Under the provisions of Pub. L. 97-451, a petition for reinstatement of oil and gas lease NMNM 106535 for lands in Eddy County, New Mexico, was timely filed and was accompanied by all required rentals and royalties accruing from September 1, 2003, the date of termination.

FOR FURTHER INFORMATION CONTACT: Bernadine T. Martinez, BLM, New Mexico State Office, (505) 438-7530.

SUPPLEMENTARY INFORMATION: No valid lease has been issued affecting the lands. The lessees have agreed to new lease terms for rentals and royalties at rates of $10.00 per acre or fraction thereof and 16⅔ percent, respectively. The lessees have paid the required $500.00 administrative fee and has reimbursed the Bureau of Land Management for the cost of this Federal Register notice.

The lessees have met all the requirements for reinstatement of the lease as set out in Sections 31(d) and (e) of the Mineral Lease Act of 1920 (30 U.S.C. 188), and the Bureau of Land Management is proposing to reinstate the lease effective September 1, 2003, subject to the original terms and conditions of the lease and the increased rental and royalty rates cited above.

Bernadine T. Martinez,
Land Law Examiner, Fluids Adjudication Team.

[FR Doc. 04-26322 Filed 11-26-04; 8:45 am]

BILLING CODE 4310-FB-P